FEDERAL ELECTION COMMISSION

Sunshine Act Meeting

AGENCY: Federal Election Commission.

DATE AND TIME: Tuesday, December 17, 2013 at 10:00 a.m.

PLACE: 999 E Street NW., Washington, DC (Ninth Floor).

STATUS: This meeting will be open to the public.

ITEMS TO BE DISCUSSED:

Correction and Approval of Minutes for November 14, 2013;

Correction and Approval of Minutes for November 21, 2013;

Audit Division Recommendation Memorandum on the North Dakota Republican Party (NDRP) (A11-11);

Agency Procedure for Notice to Named Respondents in Enforcement Matters of Additional Material Facts and/or Additional Potential Violations;

Proposed Directive re: Information Sharing with Other Law Enforcement Agencies;

2013 Legislative Recommendations;

Meeting Dates;

Election of Officers;

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2013-29758 Filed 12-10-13; 4:15 pm]

BILLING CODE 6715-01-P